DEPARTMENT OF THE INTERIOR

National Park Service

[NPS-WASO-VRP-REGS-NPS0027442; PPWOVPADU0, POPFR2021.XZ0000 (199); OMB Control Number 1024-0026]

Agency Information Collection Activities; Special Park Use Applications

AGENCY: National Park Service, Interior.

ACTION: Notice of Information Collection; request for comment.

SUMMARY: In accordance with the Paperwork Reduction Act of 1995, we, the National Park Service (NPS) are proposing to renew an information collection with revisions.

DATES: Interested persons are invited to submit comments on or before July 29, 2019.

ADDRESSES: Send your comments on this information collection request (ICR) by mail to Phadrea Ponds, Acting NPS Information Collection Clearance Officer, 1201 Oakridge Drive Fort Collins, CO 80525; or by email at phadrea_ponds@nps.gov; or by telephone at 970-267-7231. Please reference OMB Control Number 1024-0026 in the subject line of your comments.

FOR FURTHER INFORMATION CONTACT: To request additional information about this ICR by mail contact Lee Dickinson, Special Park Uses National Manager, National Park Service Special Park Uses Program, 1849 C Street NW, Main Interior Building—Rm 2474, Washington D.C 20240; or by email at lee_dickinson@nps.gov; or by telephone at 202-513-7092. Please reference OMB Control Number 1024-0026 in the subject line of your comments

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Under 54 U.S.C. 100101 (National Park Service Act Organic Act), we must preserve America's natural wonders unimpaired for future generations, while also making them available for the enjoyment of the visitor. Meeting this mandate requires that we balance preservation with use. Maintaining a good balance requires both information and limits. In accordance with regulations at 36 CFR parts 1-7, 13, 20, and 34, we issue permits for special park uses.

Special park uses cover a wide range of activities including, but not limited to, special events, First Amendment activities, grazing and agricultural use, commercial filming, still photography, construction and vehicle access. Permits are issued for varying amounts of time based on the requested use, but generally do not exceed 5 years. A new application must be submitted in order to request the renewal of an existing permit.

The information we collect in the special use applications allows park managers to determine if the requested use is consistent with the laws and NPS regulations referenced above and with the public interest. The park manager must also determine that the requested activity will not cause unacceptable impacts to park resources and values. The information is collected using the following NPS forms:

• 10-930—Application for Special Use Permit;

• 10-930s—Application for Special Use Permit (short form);

• 10-931—Application for Special Use Permit—Commercial Filming/Still Photography Permit (short);

• 10-932—Application for Special Use Permit—Commercial Filming/Still Photography Permit (long); and,

• 10-933—Application for Special Use Permit—Vehicle/Watercraft Use.

We will review the forms currently approved by OMB to determine whether any changes will be made. If we determine changes need to be made, we will solicit feedback on the updated forms as part of the required outreach process with the renewal and will explain the changes in our submission to OMB.

Title of Collection: Special Park Use Applications (portions of 36 CFR 1-7, 13, 20, and 34).

OMB Control Number: 1024-0026.

Form Number: NPS Forms 10-930, 10-930s, 10-931, 10-932, and, 10-933.

Type of Review: Revision of a currently approved collection.

Respondents/Affected Public: Individuals or households; businesses or other for-profit entities; and Federal, State, local and tribal governments.

Respondent's Obligation: Required to obtain or retain a benefit.

Frequency of Collection: On occasion.

Total Estimated Annual Nonhour Burden Cost: $2,530,125 for application fees.

Activity | Estimated annual respondents | Estimated annual responses | Average completion time per response (hours) | Estimated annual burden hours *
10-930—Application for Special Use Permit
Individuals/Households | 8,763 | 8,763 | .5 | 4,382
Private Sector | 3,559 | 3,559 | .5 | 1,780
State/Local/Tribal Governments | 516 | 516 | .5 | 258
930s—Application for Special Use Permit (short form)
Individuals/Households | 3,110 | 3,110 | .25 | 778
Private Sector | 1,441 | 1,441 | .25 | 360
State/Local/Tribal Governments | 310 | 310 | .25 | 78
10-931—Application for Special Use Permit—Commercial Filming/Still Photography Permit (short)
Individuals/Households | 412 | 412 | .25 | 103
Private Sector | 1,226 | 1,226 | .25 | 307
State/Local/Tribal Governments | 42 | 42 | .25 | 11
10-932—Application for Special Use Permit—Commercial Filming/Still Photography Permit (long)
Individuals/Households | 109 | 109 | .5 | 55
Private Sector | 945 | 945 | .5 | 473
State/Local/Tribal Governments | 19 | 19 | .5 | 10
10-933—Application for Special Use Permit—Vehicle/Watercraft Use
Individuals/Households | 13,050 | 13,050 | .25 | 3,263
Private Sector | 228 | 228 | .25 | 57
State/Local/Tribal Governments | 5 | 5 | .25 | 1
Totals | 33,735 | 33,735 |  | 11,916
* Rounded.

An agency may not conduct or sponsor and a person is not required to respond to a collection of information unless it displays a currently valid OMB control number.

The authority for this action is the Paperwork Reduction Act of 1995 (44 U.S.C. 3501 et seq.).

Phadrea Ponds,
Acting Information Collection Clearance Officer, National Park Service.

[FR Doc. 2019-11063 Filed 5-24-19; 8:45 am]

BILLING CODE 4312-52-P